DEPARTMENT OF COMMERCE

Census Bureau

Proposed Information Collection; Comment Request; Business and Professional Classification Report

AGENCY: U.S. Census Bureau, Commerce.

ACTION: Notice.

SUMMARY: The Department of Commerce, as part of its continuing effort to reduce paperwork and respondent burden, invites the general public and other Federal agencies to take this opportunity to comment on proposed and/or continuing information collections, as required by the Paperwork Reduction Act of 1995.

DATES: To ensure consideration, written comments must be submitted on or before July 23, 2018.

ADDRESSES: Direct all written comments to Jennifer Jessup, Departmental Paperwork Clearance Officer, Department of Commerce, Room 6616, 14th and Constitution Avenue NW, Washington, DC 20230 (or via the internet at PRAcomments@doc.gov).

FOR FURTHER INFORMATION CONTACT: Requests for additional information or copies of the information collection instrument(s) and instructions should be directed to Scott Handmaker, Chief, Classification Processing Branch, U.S. Census Bureau, 8K149, Washington, DC 20233, Telephone 301-763-7107; Email: Scott.P.Handmaker@census.gov.

SUPPLEMENTARY INFORMATION:

I. Abstract

The Census Bureau conducts the Business and Professional Classification Report survey to collect information from new businesses to obtain proper industry classification for use in economic surveys and the Economic Census. The survey, conducted quarterly, samples businesses with newly assigned Employer Identification Numbers (EINs) from the Internal Revenue Service (IRS). Businesses can only be selected once for the survey. The survey collects data about a business in such areas as: primary business activity, company structure, size, and business operations. This information is used to update the sampling frame for current business surveys, which ensures high quality economic estimates. Additionally, by ensuring proper industry classification, this survey reduces burden for the businesses in the five-year Economic Census, as the questions in the census are tailored to the industry in which the business operates. There are no major changes to this collection. Minimal changes will be made to the wording and organization of existing questions and instructions.

II. Method of Collection

We will collect this information over the internet and by telephone follow-up. Respondents will receive a letter directing them to the internet to report their information. After three weeks, respondents will receive a reminder letter about the survey. After the due date, the Census Bureau will conduct a telephone follow-up operation for nonresponse. Throughout the survey, telephone assistance is available for respondents with questions and for those that cannot report over the internet.

III. Data

OMB Control Number: 0607-0189.

Form Number(s): SQ-CLASS.

Type of Review: Regular submission.

Affected Public: Business or other for profit and not-for-profit institutions.

Estimated Number of Respondents: 57,000.

Estimated Time per Response: 13 minutes.

Estimated Total Annual Burden Hours: 12,350 hours.

Estimated Total Annual Cost to Public: $0. (This is not the cost of respondents' time, but the indirect costs respondents may incur for such things as purchases of specialized software or hardware needed to report, or expenditures for accounting or records maintenance services required specifically by the collection.)

Respondent's Obligation: Mandatory.

Legal Authority: Title 13, United States Code, Sections 131, 182, and 193.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer.

[FR Doc. 2018-10821 Filed 5-21-18; 8:45 am]

BILLING CODE 3510-07-P